NATIONAL COUNCIL ON DISABILITY

Sunshine Act Meetings

TIME AND DATE: The Members of the National Council on Disability (NCD) will meet via conference call Friday, July 24, 2020, 10:00 a.m.-12:00 p.m., EDT. Interested parties may join the meeting in listen-only capacity. Call-In Number: 866-248-8441; Passcode: 6077610, Host Name: Neil Romano.

MATTERS TO BE CONSIDERED: The Council will conduct a business meeting, to include release of the 2020 Progress Report.

Agenda: The times provided below are approximations for when each agenda item is anticipated to be discussed (all times Eastern Daylight Time):

Friday, July 24, 2020

10:00 a.m.—10:10 a.m. Welcome and Call to Order, Chairman Neil Romano

Roll Call: Council Members

Roll Call: Staff

Call for Vote on Acceptance of Agenda

Call for Vote of May 2020 Council Meeting Minutes

10:10 a.m.-11:30 a.m. Executive Reports

Chairman's Report, Neil Romano

Executive Report, Lisa Grubb

Financial Report, Wendy S. Harbour and Keith Woods

Governance Report, Billy Altom and Lisa Grubb Legislative Affairs Report, Anne Sommers Policy Report, Joan Durocher

11:30 a.m.—12:00 p.m. Release of 2020 Progress Report

12:00 p.m. Call for Motion to Adjourn

Public Comment: Public comments are important in bringing attention to disability issues. Please submit your written comments to PublicComment@ncd.gov. Your comments will be shared with council members following the meeting. To ensure your comments are accurately reflected, please include your name, email, and location of business, if applicable.

CONTACT PERSON FOR MORE INFORMATION: Anne Sommers, NCD, 1331 F Street NW, Suite 850, Washington, DC 20004; 202-272-2004 (V), 202-272-2022 (Fax). Accommodations: A CART streamtext link has been arranged for this meeting. The web link to access CART on Friday, July 24, 2020 is: https://www.streamtext.net/player?event=NCD-QUARTERLY

Dated: June 30, 2020.
Sharon M. Lisa Grubb,
Executive Director.

[FR Doc. 2020-14482 Filed 6-30-20; 4:15 pm]

BILLING CODE 8421-02-P